DEPARTMENT OF AGRICULTURE

Natural Resources Conservation Service

Notice of Availability Mancos Valley Salinity Control Project Plan and Environmental Assessment (EA), and Finding of No Significant Impact (FONSI)

AGENCY: Natural Resources Conservation Service, USDA.

ACTION: Notice.

SUMMARY: The Natural Resources Conservation Service (NRCS), has prepared a plan and environmental assessment consistent with the Environmental Policy Act of 1969, as amended. Funding for salinity control projects is available through the Environmental Quality Incentives Program which is covered by a programmatic EA. The Mancos Valley plan and EA were developed to more specifically evaluate the effects associated with this type of water quality activity. Upon review of the information in the Mancos Valley EA, the State Conservationist, NRCS, Colorado made a Finding of No Significant Impact (FONSI) and the determination was made that no environmental impact statement is required to support the Mancos Valley Plan. Pursuant to section 102(2)(c) of the National Environmental Policy Act of 1969; the Council on Environmental Quality Regulations (40 CFR part 1500); and the Natural Resources Conservation Service Regulations (7 CFR part 650); the Natural Resources Conservation Service, U.S. Department of Agriculture, gives notice that an environmental impact statement is not being prepared for the Mancos Valley Salinity Control Project, Montezuma County, Colorado. Written comments regarding this action may be submitted to: USDA/NRCS; Allen Green, State Conservationist, Room E200C, 655 Parfet St., Lakewood, Colorado 80215-5517. Comments must received no later than 30 days after this notice is published.

FOR FURTHER INFORMATION CONTACT: Allen Green, State Conservationist, Natural Resources Conservation Service, 655 Parfet St., Lakewood, CO 80215-5517; telephone (720) 544-2802.

SUPPLEMENTARY INFORMATION: The environmental assessment of this Federally assisted action documents that the project will not cause significant local, regional, state, or national impacts on the human environment. The findings of Allen Green, State Conservationist, indicate that the preparation and review of an environmental impact statement is not needed for this project.

The project purpose is to reduce salt loading to the Mancos River which is a tributary to the Colorado River. Excessive loading is the result of seepage from delivery ditch systems and inefficient irrigation application methods and procedures. The planned works of improvement include on-farm underground irrigation pipelines; on-farm concrete irrigation ditches; sprinkler irrigation systems; off-farm delivery system pipelines; polyacrylamide treatment of delivery ditches; structures for water control; and wildlife habitat development. These enduring practices are accompanied by facilitating management practices such as Irrigation Water Management, Wildlife Habitat Management Wetland, and Wildlife Habitat Management Upland.

This Notice of a Finding of No Significant Impact (FONSI) has been forwarded to the Environmental Protection Agency and to various, Federal, State, and local agencies and interested parties. Copies of the FONSI and Plan/Environmental Assessment are available by request from Allen Green, Colorado State Conservationist. Basic data developed during the environmental evaluation are on file and may be reviewed by contacting Allen Green, Colorado State Conservationist, or copies of the plan and environmental assessment, and FONSI can be obtained from Mr. Timothy Oulette, District Conservationist, NRCS, USDA, 628 West 5th Street, Cortez, CO 81321-4045; telephone: (970) 565-9045; extension 3. or Mr. Frank Riggle, Assistant State Conservationist, Water Resources, NRCS, USDA, 655 Parfet St., Room E200C, Lakewood, CO 80215-5517; telephone (720) 544-2804.

No administrative action on implementation of this project will be taken until 30 days after the date of this notice is published.

(This activity is listed in the Catalog of Federal Domestic Assistance under No. 10.902, Soil and Water Conservation and Environmental Quality Incentive Program 10.912.)
Allen Green,
State Conservationist.

[FR Doc. 04-7928 Filed 4-7-04; 8:45 am]

BILLING CODE 3410-06-P